Title 3—

The President

Proclamation 10177 of April 11, 2021

National Fair Housing Month, 2021

By the President of the United States of America

A Proclamation

Correction

Proclamation 10177, published on pages 19775-19776 in the Federal Register of Thursday, April 15, 2021, is corrected to add the following editorial note:

[Editorial Note: Proclamation 10177, published on pages 19775-19776 in the Federal Register of Thursday, April 15, 2021, was printed with a White House correction.]

[FR Doc. C1-2021-07861

Filed 4-22-21; 2:00 pm]

Billing code 1301-00-D